DEPARTMENT OF THE TREASURY

Submission for OMB Review; Comment Request

February 7, 2013.

The Department of the Treasury will submit the following information collection request to the Office of Management and Budget (OMB) for review and clearance in accordance with the Paperwork Reduction Act of 1995, Public Law 104-13, on or after the date of publication of this notice.

DATES: Comments should be received on or before March 14, 2013 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave., NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Bureau of the Public Debt (BPD)

OMB Number: 1535-0068.

Type of Review: Extension without change of a currently approved collection.

Title: Regulations Governing Book-entry Treasury Bonds, Notes and Bills.

Abstract: The regulations govern U.S. Treasury bonds, notes, and bills offered exclusively in book-entry form. The collection of information is necessary to service and maintain an investor's book-entry account, and for the issuance, transfer, and payment of securities held in book-entry form.

Affected Public: Individuals or Households.

Estimated Total Burden Hours: 1.

OMB Number: 1535-0091.

Type of Review: Extension without change of a currently approved collection.

Title: Regulations Governing U.S. Treasury Securities—State and Local Government Series.

Abstract: The regulations govern U.S. Treasury bonds, notes and certificates of indebtedness of the States and Local Government Series. The collection of information is necessary to enable Treasury to establish an investor's account, to issue securities, to ensure that an investor meets the certification requirements, to redeem securities either at or prior to maturity, and to obtain necessary documentation where a waiver is involved.

Affected Public: State, Local, and Tribal Governments.

Estimated Total Burden Hours: 434.

Dawn D. Wolfgang,
Treasury PRA Clearance Officer.

[FR Doc. 2013-03127 Filed 2-11-13; 8:45 am]

BILLING CODE 4810-39-P